DEPARTMENT OF THE INTERIOR

National Park Service

Notice of Availability of Draft National Park Service Management Policies

AGENCY: National Park Service, Interior.

ACTION: Notice of availability.

SUMMARY: The National Park Service (NPS) is proposing to update the policies that guide the management of the national park system. The policies are being updated to keep pace with changes in laws, regulations, socio-economic factors and technology, and with new understandings of the natural and cultural resources that the NPS is responsible for protecting within the national parks. Public comment is invited for a 60-day period, which closes March 20, 2000.

DATES: Written comments will be accepted until March 20, 2000.

ADDRESSES: Draft Management Policies is available on the Internet at http://www.nps.gov/refdesk/policies.html. Hard copies may be reviewed in the Department of the Interior library (at the C Street entrance of the Main Interior Building); at all units of the national park system; and at NPS regional offices in Philadelphia, PA; Washington, DC; Atlanta, GA; Denver, CO; Omaha, NE; San Francisco, CA; and Anchorage, AK. Requests for single copies of the draft, and written comments, should be sent to Bernard Fagan, National Park Service, Office of Policy, Room 2414, Main Interior Building, 1849 C Street, NW., Washington, DC 20240.

FOR FURTHER INFORMATION CONTACT: Bernard Fagan at (202) 208-7456.

SUPPLEMENTARY INFORMATION: The NPS has completed a comprehensive review and revision of the policies that currently guide the management of the national park system. The policies are compiled in a book called Management Policies, last published in 1988. Park superintendents, planners, and other NPS employees use management policies as a reference source when making decisions that will affect units of the national park system. The policies are being updated to keep pace with changes in laws, regulations, socio-economic factors and technology, and with new understandings about the natural and cultural resources that the NPS is responsible for protecting within the national parks. Some of the policies (e.g., those dealing with planning, wilderness preservation, and wildland fire management) in the 1988 Management Policies have been updated more recently by means of “Director's Orders,” which have been issued following a public notice and comment period.

Management Policies includes the National Park Service's interpretation of the key legislation that underlies the policies, and chapters that address: Park planning; park protection; interpretation and education; use of the parks; park facilities; commercial visitor services; and the management of natural resources, cultural resources, and wilderness.

The NPS hereby invites comments on the draft policies from any and all who may be interested. Comments will be accepted during a 60-day period which ends March 20, 2000. Comments should be specific as to how a policy might be changed or strengthened.

All comments will be reviewed, and appropriate suggestions will be incorporated into the revised final version of Management Policies. The final document will be available to the public via the Internet and in printed form. A notice of availability of the final document, and an explanation of how comments were addressed, will appear in the Federal Register.

Dated: January 13, 2000.
Loran Fraser,
Chief, Office of Policy.

[FR Doc. 00-1243 Filed 1-18-00; 8:45 am]

BILLING CODE 4310-70-P